DEPARTMENT OF THE INTERIOR

Office of the Secretary

Alaska Land Managers Forum

AGENCY: Office of the Secretary, Interior.

ACTION: Notice, reestablishment of advisory committee.

SUMMARY: This notice is published in accordance with section 9(a)(2) of the Federal Advisory Committee Act (FACA), 5 U.S.C. App. 2 (1988) and 41 CFR 101-6.1015(a). Following consultation with the General Services Administration and the Office of Management and Budget, notice is hereby given that the Secretary of the Interior is administratively reestablishing an advisory committee known as the Alaska Land Managers Forum. The purpose of the committee is to advise the Secretary on Alaska land and resources issues.

EFFECTIVE DATE: This decision is effective November 29, 2000.

FOR FURTHER INFORMATION CONTACT: Marilyn Heiman, Special Assistant to the Secretary for Alaska, Office of the Secretary, Department of the Interior, 1689 C Street, Suite 100, Anchorage, Alaska 99501-5151, (907) 271-5485.

Marilyn Heiman,
Special Assistant to the Secretary for Alaska, Department of the Interior, Office of the Secretary

[FR Doc. 00-31005 Filed 12-5-00; 8:45 am]

BILLING CODE 4310-RP-U